ENVIRONMENTAL PROTECTION AGENCY

[ER-FRL-8989-5]

Environmental Impacts Statements; Notice of Availability

Responsible Agency: Office of Federal Activities, General Information (202) 564-1399 or http://www.epa.gov/compliance/nepa/.

Weekly receipt of Environmental Impact Statements.

Filed 03/22/2010 through 03/26/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100097, Final EIS, USFS, OR, EXF Thinning, Fuel Reduction, and Research Project, Proposal for Vegetation Management and Fuel Reduction within the Lookout Mountain Unit of the Pringle Falls Experimental Forest, Bend/Ft. Rock Ranger District, Deschates National Forest, Deschutes County, OR, Wait Period Ends: 05/03/2010, Contact: Beth Peer 541-383-4769.

EIS No. 20100098, Final EIS, FHWA, WA, WA-502 Corridor Widening Project, Proposes Improvements to Five Miles of WA-502 (NE.-219th Street) between NE. 15th Avenue and NE. 102nd Avenue, Funding, Clark County, WA, Wait Period Ends: 05/03/2010, Contact: Chris Tams 360-759-1310.

EIS No. 20100099, Final EIS, FHWA, FL, Interstate 395 (I-395) Development and Environment Study Project, From I-95 to West Channel Bridges of the MacArthur Causeway at Biscayne Bay, City of Miami, Miami-Dade County, FL, Wait Period Ends: 05/03/2010, Contact: Linda K. Anderson 850-942-9650 Ext. 3053.

EIS No. 20100100, Draft EIS, BLM, OR, West Butte Wind Power Project, Construction and Operation of Access Roads and a Transmission Line, Application for Right-of-Way (ROW) Grant, Deschutes and Crook Counties, OR, Comment Period Ends: 05/17/2010, Contact: Steve Storo 541-416-6700.

EIS No. 20100101, Draft EIS, FTA, TX, D2 Downtown Dallas Transit Study, To Support Increased Demand and Implementation of the 2030 Transit System Plan (TSP), Dallas Area Rapid Transit (DART), in the City of Dallas, Dallas County, TX, Comment Period Ends: 05/17/2010, Contact: Lynn Hayes 817-978-0565.

EIS No. 20100102, Draft EIS, BLM, CA, Palen Solar Power Plant Project, Construction, Operation and Decommission a Solar Thermal Facility on Public Lands, Approval for Right-of-Way Grant, Possible California Desert Conservation Area Plan Amendment, Riverside County, CA, Comment Period Ends: 07/01/2010, Contact: Holly Roberts 760-833-7149.

EIS No. 20100103, Draft EIS, FERC, 00, Apex Expansion Project, Proposal to Expand its Natural Gas Pipeline System, WY, UT and NV, Comment Period Ends: 05/17/2010, Contact: Julia Bovey 1-866-208-3372.

EIS No. 20100104, Draft EIS, USFS, NM, McKinley County Easement—Forest Roads 191 and 191D, Implementation, Cibola National Forest, McKinley County, NM, Comment Period Ends: 05/17/2010, Contact: Keith Baker 505-346-3820.

EIS No. 20100105, Draft EIS, USA, GA, Fort Stewart Training Range and Garrison Support Facilities Construction and Operation, Liberty, Long, Bryan, Evans and Tattnall Counties, GA, Comment Period Ends: 05/17/2010, Contact: Mike Ackerman 410-436-2522.

EIS No. 20100106, Draft EIS, BLM, CA, Granite Mountain Wind Energy Project, Proposed to Develop an up to 84-megawatt Wind Energy Plant and Associated Facilities on Public Land and Private Land, California Desert Conservation Areas Plan, San Bernardino County, CA, Comment Period Ends: 07/01/2010, Contact: Edythe Seehafer 760-252-6021.

EIS No. 20100107, Draft EIS, BLM, CA, Calico Solar Project, Proposed Solar Thermal Electricity Generation Facility Located Public Lands, Construction and Operation, Right-of-Way Grant, San Bernardino County, CA, Comment Period Ends: 07/01/2010, Contact: Jim Stobaugh 775-861-6478.

Amended Notices

EIS No. 20100018, Draft EIS, NPS, WV, New River Gorge National River Project, General Management Plan, Implementation, Fayette, Raleigh and Summers Counties, WV, Comment Period Ends: 04/02/2010, Contact: Deborah Darden 304-465-6509.

Revision to FR Notice Published 01/29/2010: Correction to Comment Period from 03/29/2010 to 04/02/2010.

EIS No. 20100054, Draft EIS, NASA, VA, Wallops Flight Facility, Shoreline Restoration and Infrastructure Protection Program, Implementation, Wallops Island, VA, Comment Period Ends: 04/19/2010, Contact: Joshua A. Bundick 757-824-2319.

Revision to FR Notice Published 02/26/2010: Correction to Comment Period from 04/12/2010 to 04/19/2010.

Dated: March 30, 2010.
Robert W. Hargrove,
Director, NEPA Compliance Division, Office of Federal Activities.

[FR Doc. 2010-7501 Filed 4-1-10; 8:45 am]

BILLING CODE 6560-50-P